DEPARTMENT OF AGRICULTURE

Grain Inspection, Packers and Stockyards Administration

Designation for the Owensboro, Kentucky; Bloomington, Illinois; Sioux City, Iowa; Grand Forks, North Dakota; and Plainview, Texas, Areas

AGENCY: Grain Inspection, Packers and Stockyards Administration, USDA.

ACTION: Notice.

SUMMARY: GIPSA is announcing the designations of J.W. Barton Grain Inspection Service, Inc. (Barton); Central Illinois Grain Inspection, Inc. (Central Illinois); Sioux City Inspection and Weighing Service Company (Sioux City); Northern Plains Grain Inspection Service, Inc. (Northern Plains) and Plainview Grain Inspection and Weighing Service, Inc. (Plainview) to provide official services under the United States Grain Standards Act (USGSA), as amended.

DATES: Effective April 1, 2017.

ADDRESSES: Jacob Thein, Compliance Officer, USDA, GIPSA, FGIS, QACD, 10383 North Ambassador Drive, Kansas City, MO 64153.

FOR FURTHER INFORMATION CONTACT: Jacob Thein, (816) 866-2223, Jacob.D.Thein@usda.gov or FGIS.QACD@usda.gov.

Read Applications: All applications and comments are available for public inspection at the office above during regular business hours (7 CFR 1.27(c)).

SUPPLEMENTARY INFORMATION: In the March 22, 2017, Federal Register (82 FR 14676-14679), GIPSA requested applications for designation to provide official services in the geographic areas presently serviced by Barton, Central Illinois, Sioux City, Northern Plains, and Plainview. Applications were due by April 21, 2017.

The current official agencies, Barton, Central Illinois, Sioux City, Northern Plains, and Plainview, were the only applicants for designation to provide official services in these areas. As a result, GIPSA did not ask for additional comments.

GIPSA evaluated the designation criteria in section 7(f) of the USGSA (7 U.S.C. 79(f)) and determined that Barton, Central Illinois, Sioux City, Northern Plains, and Plainview are qualified to provide official services in the geographic areas specified in the Federal Register on March 22, 2017. These designations to provide official services in the specified areas of Barton, Central Illinois, Sioux City, Northern Plains, and Plainview are effective April 1, 2017, to March 31, 2022.

Interested persons may obtain official services by contacting this agency at the following telephone number:

Official agency | Headquarters location and telephone | Designation start | Designation end
Barton | Owensboro, KY, 270-683-0616 | 4/1/2017 | 3/31/2022
Central Illinois | Bloomington, IL, 309-827-7121 | 4/1/2017 | 3/31/2022
Sioux City | Sioux City, IA, 712-255-8073 | 4/1/2017 | 3/31/2022
Northern Plains | Grand Forks, ND, 701-772-2414 | 4/1/2017 | 3/31/2022
Plainview | Plainview, TX, 806-293-1364 | 4/1/2017 | 3/31/2022

Section 7(f) of the USGSA authorizes the Secretary to designate a qualified applicant to provide official services in a specified area after determining that the applicant is better able than any other applicant to provide such official services (7 U.S.C. 79(f)).

Randall D. Jones,
Acting Administrator, Grain Inspection, Packers and Stockyards Administration.

[FR Doc. 2017-13877 Filed 6-30-17; 8:45 am]

BILLING CODE 3410-KD-P